ENVIRONMENTAL PROTECTION AGENCY

40 CFR Part 52

[AL-054-200027(a); FRL-6910-6]

Approval and Promulgation of Implementation Plans: Revision to the Alabama Department of Environmental Management (ADEM) Administrative Code for the Air Pollution Control Program

AGENCY: Environmental Protection Agency (EPA).

ACTION: Direct final rule.

SUMMARY: The EPA is approving revisions to the Alabama Department of Environmental Management's (ADEM) Administrative Code submitted on August 10, 2000, by the State of Alabama. The revisions comply with the regulations set forth in the Clean Air Act (CAA). Included in this document are revisions to clarify the definition of “New Source,” delete outdated rule 335-3-4-.08(4), revise rule 335-3-14-.05(2)(i) to be consistent with the Federal requirements for the Review of New Sources and Modifications, and change the numbering system to comply with the Alabama Administrative Procedures Act.

DATES: This direct final rule is effective February 6, 2001, without further notice, unless EPA receives adverse comment by January 8, 2001. If adverse comment is received, EPA will publish a timely withdrawal of the direct final rule in the Federal Register and inform the public that the rule will not take effect.

ADDRESSES: All comments should be addressed to: Sean Lakeman at the EPA, Region 4 Air Planning Branch, 61 Forsyth Street, SW, Atlanta, Georgia 30303.

Copies of documents relative to this action are available at the following addresses for inspection during normal business hours:

Air and Radiation Docket and Information Center (Air Docket 6102), U.S. Environmental Protection Agency, 401 M Street, SW., Washington, DC 20460.

Environmental Protection Agency, Region 4, Air Planning Branch, 61 Forsyth Street, SW, Atlanta, Georgia 30303-8960.

Alabama Department of Environmental Management, 400 Coliseum Boulevard, Montgomery, Alabama 36110-2059.

FOR FURTHER INFORMATION CONTACT: Sean Lakeman, Regulatory Planning Section, Air Planning Branch, Air, Pesticides and Toxics Management Division, Region 4, Environmental Protection Agency, Atlanta Federal Center, 61 Forsyth Street, SW, Atlanta, Georgia 30303. The telephone number is (404)562-9043. Mr. Lakeman can also be reached via electronic mail at lakeman.sean@epa.gov.

SUPPLEMENTARY INFORMATION:

I. Analysis of State's Submittal

On August 10, 2000, the State of Alabama through ADEM submitted revisions to chapters 335-3-1, 2, 3, 4, 5, 6, 9, 12, 14, 15, and 16. In chapter 335-3-1 the definition of “New Source” is being clarified to indicate that it is not applicable to the definitions of new source in chapters 335-3-10 Standards of Performance for New Stationary Sources and chapter 11 National Emission Standard for Hazardous Air Pollutants, which are not part of the federally enforceable state implementation plan (SIP).

ADEM combined rule 335-3-5-.03(5) and 335-3-5-.03(6) to be consistent with Alabama Administrative Procedures Act, and revised rule 335-3-14-.05(2)(i) to be consistent with 40 CFR 51, subpart I. ADEM deleted rule 335-3-4-.08(4) pertaining to emissions from wood waste boilers at pulp mills in Autauga County. International Paper (formally Union Camp) operates the only pulp mill in Autauga County which has been upgraded and no longer requires a bubble. The Union Camp boilers are subject to other emission limits in the federally approved SIP.

ADEM revised the numbering system in chapters 335-3-1, 2, 3, 4, 5, 6, 9, 12, 14, 15, and 16 to comply with numbering system required by the Legislative Reference Service under Alabama Administrative Procedures Act.

II. Final Action

EPA is approving the aforementioned change to the State of Alabama's SIP because they are consistent with the CAA and EPA policy. The EPA is publishing this rule without a prior proposal because the Agency views this as a noncontroversial submittal and anticipates no adverse comments. However, in the proposed rules section of this Federal Register publication, EPA is publishing a separate document that will serve as the proposal to approve the SIP revision if adverse comments are filed. This rule will be effective February 6, 2001, without further notice unless the Agency receives adverse comments by January 8, 2001.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on February 6, 2001 and no further action will be taken on the proposed rule.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by February 6, 2001. Filing a petition for reconsideration by the Administrator of this final rule does not affect the finality of this rule for the purposes of judicial review nor does it extend the time within which a petition for judicial review may be filed, and will not postpone the effectiveness of such rule or action. This action may not be challenged later in proceedings to enforce its requirements. (See section 307(b)(2).)

List of Subjects in 40 CFR Part 52

Environmental protection, Air pollution control, Lead, Intergovernmental relation, Reporting and record keeping requirements.

Dated: November 8, 2000.
A. Stanley Meiburg,
Acting Regional Administrator, Region 4.

Chapter I, title 40, Code of Federal Regulations, is amended as follows:

PART 52—[AMENDED]

1. The authority citation for part 52 continues to read as follows:

Authority: 42 U.S.C. 7401 et seq.

Subpart B—Alabama

2. Section 52.50(c) is amended:

a. Under Chapter No. 335-3-1 by revising entries “Section 335-3-1-.02” and “Section 335-3-1-.08.”

b. Under Chapter No. 335-3-2 by revising entry “Section 335-3-2-.02.”

c. Under Chapter No. 335-3-3 by revising entries “Section 335-3-3-.01” and “Section 335-3-3-.03.”

d. Under Chapter No. 335-3-4 by revising entries “Section 335-3-4-.08” and “Section 335-3-4-.09.”

e. Under Chapter No. 335-3-5 by revising entries “Section 335-3-5-.03” and “Section 335-3-5-.04.”

f. Under Chapter No. 335-3-6 by revising entries “Section 335-3-6-.06” and “Section 335-3-6-.16.”

g. Under Chapter No. 335-3-9, the second entry for “Section 335-3-9-.01” is redesignated as “Section 335-3-9-.02” and revised; the existing entry for “Section 335-3-9-.02” is redesignated as “Section 335-3-9-.03”, and revised; and the entry “Section 335-3-9-.06” is revised.

h. Chapter 335-3-3-14 is redesignated as Chapter 335-3-14.

i. Under Chapter No. 335-3-14 by deleting entries “Section 335-3-14-.04(ff-gg)” and “Section 335-3-14-.04(8)(m).”

j. Under Chapter No. 335-3-14 by revising entries “Section 335-3-14-.03,” “Section 335-3-14-04” and “Section 335-3-14-.05.”

k. Under Chapter No. 335-3-15 by revising entry “Section 335-3-15-.02.”

§ 52.50 Identification of plan.

* * * * *

(c) * * *

EPA Approved Alabama Regulations
State citation | Title subject | Adoption date | EPA approval date | Federal register notice
Chapter No. 335-3-1—General Provisions
* * * * * * *
Section 335-3-1-1-.02 | Definitions | August 10, 2000 | 12/8/00 | 65 FR 76940
* * * * * * *
Section 335-3-1-.08 | Prohibition of Air Pollution | August 10, 2000 | 12/8/00 | 65 FR 76940
* * * * * * *
Chapter No. 335-3-2—Air Pollution Emergency
* * * * * * *
Section 335-3-2-.02 | Episode Criteria | August 10, 2000 | 12/8/00 | 65 FR 76940
* * * * * * *
Chapter No. 335-3-3—Control of Open Burning and Incineration
Section 335-3-3-.01 | Open Burning | August 10, 2000 | 12/8/00 | 65 FR 76940
* * * * * * *
Section 335-3-3-.03 | Incineration of Wood, Peanut, and Cotton Ginning Waste | August 10, 2000 | 12/8/00 | 65 FR 76940
Chapter No. 335-3-4—Control of Particulare Emissions
* * * * * * *
Section 335-3-4-.08 | Wood Waste Boilers | August 10, 2000 | 12/8/00 | 65 FR 76940
Section 335-3-4-.09 | Coke Ovens | August 10, 2000 | 12/8/00 | 65 FR 76940
* * * * * * *
Chapter No. 335-3-5—Control of Sulfur Compound Emissions
* * * * * * *
Section 335-3-5-.03 | Petroleum Production | August 10, 2000 | 12/8/00 | 65 FR 76940
Section 335-3-5-.04 | Kraft Pulp Mills | August 10, 2000 | 12/8/00 | 65 FR 76940
* * * * * * *
Chapter No. 335-3-6—Control of Organic Emissions
* * * * * * *
Section 335-3-6-.06 | Bulk Gasoline Terminals | August 10, 2000 | 12/8/00 | 65 FR 76940
* * * * * * *
Section 335-3-6-.16 | Test Methods and Procedures | August 10, 2000 | 12/8/00 | 65 FR 76940
* * * * * *
Chapter No. 335-3-9—Control of Emissions from Motor Vehicles
* * * * * * *
Section 335-3-9-.02 | Ignition System and Engine Speed | August 10, 2000 | 12/8/00 | 65 FR 76940
Section 335-3-9-.03 | Crankcase Ventilation Systems | August 10, 2000 | 12/8/00 | 65 FR 76940
* * * * * * *
Section 335-3-9-.06 | Other Prohibited Acts | August 10, 2000 | 12/8/00 | 65 FR 76940
Chapter No. 335-3-14—Air Permits
* * * * * * *
Section 335-3-14-.03 | Standards for Granting Permits | August 10, 2000 | 12/8/00 | 65 FR 76940
Section 335-3-14-.04 | Air Permits Authorizing Construction in Clean Air Areas (Prevention of Significant Deterioration Permitting (PSD)) | August 10, 2000 | 12/8/00 | 65 FR 76940
Section 335-3-14-.05 | Air Permits Authorizing Construction in or Near Nonattainment Areas | August 10, 2000 | 12/8/00 | 65 FR 76940
* * * * * * *
Chapter No. 335-3-15—Synthetic Minor Operating Permits
* * * * * * *
Section 335-3-15-.02 | General Provisions | August 10, 2000 | 12/8/00 | 65 FR 76940
* * * * * * *

* * * * *

[FR Doc. 00-30635 Filed 12-7-00; 8:45 am]

BILLING CODE 6560-50-U